ENVIRONMENTAL PROTECTION AGENCY

[ER-FRL-6667-2]

Environmental Impacts Statements; Notice of Availability

Responsible Agency: Office of Federal Activities, General Information (202) 564-7167 or http://www.epa.gov/compliance/nepa/.

Weekly receipt of Environmental Impact Statements filed 08/29/2005 through 09/02/2005, pursuant to 40 CFR 1506.9.

EIS No. 20050357, Draft EIS, AFS, UT, Lake Project, Proposal to Maintain Vegetative Diversity and Recover Economic Value of Dead, Dying and High Risk to Mortality Trees, Manti-La Sal National Forest, Ferron/Price Ranger District, Emery and Sanpete Counties, UT, Comment Period Ends: 10/24/2005, Contact: Alan Lucas 435-636-3320.

EIS No. 20050358, Draft EIS, NPS, VA, Great Falls Park General Management Plan, Implementation, George Washington Parkway, Fairfax County, VA, Comment Period Ends: 11/08/2005, Contact: Audrey F. Calhoun 703-289-2500.

EIS No. 20050359, Draft EIS, NPS, AK, Denali National Park and Preserve, Draft South Denali Implementation Plan, Matanuska-Susitna Borough, AK, Comment Period Ends: 11/15/2005, Contact: Glen Yankus 907-644-3535.

EIS No. 20050360, Draft EIS, AFS, SD, Bugtown Gulch Mountain Pine Beetle and Fuels Projects, To Implement Multiple Resource Management Actions, Black Hills National Forest, Hell Canyon Ranger District, Custer County, SD, Comment Period Ends: 10/24/2005, Contact: Patricia Hudson 605-673-4853.

EIS No. 20050361, Draft EIS, FRC, WA, Rocky Reach Hydroelectric Project, (FERC/DEIS-0184D), Application for a New License for the Existing 865.76 Megawatt Facility, Public Utility District No. 1 (PUD), Columbia River, Chelan County, WA, Comment Period Ends: 11/08/2005, Contact: Kim Nguyen 202-502-6105.

EIS No. 20050362, Draft EIS, NRC, NC, Generic—Brunswick Stream Electric Plant, Units 1 and 2 (TAC Nos. MC4641 and MC4642) License Renewal of Nuclear Plants, Supplement 25 to NUREG-1437, Brunswick County, NC, Comment Period Ends: 12/02/2005, Contact: Richard L. Emch 301-415-1590.

EIS No. 20050363, Final EIS, NPS, SC, NC, GA, FL, Low Country Gullah Culture Special Resource Study, Gullah Culture Preservation and Protection Analysis to Consider the Suitability and Feasibility for Inclusion in the National Park Service System, SC, NC, GA and FL, Wait Period Ends: 10/11/2005, Contact: John Barrett 404-562-3124 Ext 637.

EIS No. 20050364, Final EIS, FHW, IA, NE, Council Bluffs Interstate System Improvements Project, Transportation Improvements, Missouri River on I-80 to east of I-480 Interchange, Tier 1, Pottawattamie County, IA and Douglas County, NE, Wait Period Ends: 10/11/2005, Contact: Philip Barnes 515-233-7300.

EIS No. 20050365, Draft EIS, NRC, OH, American Centrifuge Plant, Gas Centrifuge Uranium Enrichment Facility, Construction, Operation, and Decommission, License Issuance, Piketon, OH, Comment Period Ends: 10/24/2005, Contact: Matthew Blevins 301-415-7684.

EIS No. 20050366, Final EIS, FHW, AR, I-69 Section of Independent Utility 13 El Dorado to McGehee, Construction of 4 Lane divided Access Facility, U.S. Coast Guard Permit, U.S. Army COE Section 404 Permit, Quachita River, Quachita, Union, Calhoun, Bradley, Drew, and Desha Counties, AR, Wait Period Ends: 10/24/2005, Contact: Randal Looney 501-324-6430.

EIS No. 20050367, Draft Supplement, NOA, ME, Atlantic Herring Fishery Management Plan (FWP), Amendment 1, Management Measure Adjustment, Implementation, Gulf of Maine, George Bank, ME, Comment Period Ends: 10/24/2005, Contact: Paul Howard 978-465-0492.

EIS No. 20050368, Draft EIS, IBR, NM, Carlsbad Project Water Operations and Water Supply Conservation, Changes in Carlsbad Project Operations and Implementation of Water Acquisition Program, U.S. COE Section 404 Permit, NPDES, Eddy, De Baca, Chaves, and Guadelupe Counties, NM, Comment Period Ends: 10/31/2005, Contact: Marsha Carra 505-462-3602.

EIS No. 20050369, Final EIS, FHW, MD, MD-32 Planning Study, Transportation Improvements from MD-108 to Interstate 70, Funding, NPDES Permit and COE Section 404 Permit, Howard County, MD, Wait Period Ends: 10/24/2005, Contact: Caryn Brookman 410-962-4440.

EIS No. 20050370, Draft EIS, AFS, OR, Middle Fork John Day Range Planning Project, Livestock Grazing Authorization, Implementation, Blue Mountain Ranger and Prairie City Ranger Districts, Malheur National Forest, Grant County, OR Comment Period Ends: 10/24/2005, Contact: Linda Batten 541-575-3000.

EIS No. 20050371, Draft EIS, FAA, UT, St. George Municipal Airport Replacement, Funding, City of St. George, Washington County, UT Comment Period Ends: 11/08/2005, Contact: David Field 425-227-2608.

Dated: September 6, 2005.
Ken Mittelholtz,
Environmental Protection Specialist, NEPA Compliance Division, Office of Federal Activities.

[FR Doc. 05-17924 Filed 9-8-05; 8:45 am]

BILLING CODE 6560-50-P